DEPARTMENT OF COMMERCE

National Oceanic and Atmospheric Administration

[I.D. 080105E]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Habitat/Marine Protected Area (MPA)/Ecosystem Committee in August, 2005 to consider actions affecting New England fisheries in the exclusive economic zone (EEZ). Recommendations from this group will be brought to the full Council for formal consideration and action, if appropriate.

DATES: The meeting will be held on Monday, August 22, 2005, at 9:30 a.m.

ADDRESSES: The meeting will be held at the Eastland Park Hotel, 157 High Street, Portland, ME 04101; telephone: (207) 775-5411; fax: (207) 775-1066.

Council address: New England Fishery Management Council, 50 Water Street, Mill 2, Newburyport, MA 01950.

FOR FURTHER INFORMATION CONTACT: Paul J. Howard, Director, New England Fishery Management Council; telephone: (978) 465-0492.

SUPPLEMENTARY INFORMATION: The Habitat/MPA/Ecosystem Committee will continue work on elements of the Essential Fish Habitat (EFH) Omnibus Amendment 2 including, but not limited to, a review of the peer-review report of the Habitat Evaluation Review Committee meeting on EFH designation methods and tools. The Committee will also review and consider the Habitat Plan Development Team's (PDT) evaluations of the Habitat Area of Particular Concern proposals. Other topics to be addressed by the Committee include: development of a draft Marine Protected Area policy based on recent policy development workshops' report; jurisdictional issues surrounding non-fishing marine services: Liquified Natural Gas (LNG), aquaculture and windfarms; preliminary review of coastal pollution and marine fisheries productivity project; update on upcoming stakeholder meetings as well as other topics at the Committee's discretion.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Dated: August 3, 2005.
Emily Menashes,
Acting Director, Office of Sustainable Fisheries, National Marine Fisheries Service.

[FR Doc. E5-4245 Filed 8-5-05; 8:45 am]

BILLING CODE 3510-22-S